DEPARTMENT OF THE INTERIOR

National Park Service

[NPS-WASO-NRNHL-12032; 2200-3200-665]

National Register of Historic Places; Notification of Pending Nominations and Related Actions

Nominations for the following properties being considered for listing or related actions in the National Register were received by the National Park Service before December 29, 2012. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th floor, Washington, DC 20005; or by fax, 202-371-6447. Written or faxed comments should be submitted by February 25, 2013. Before including your address, phone number, email address, or other personal identifying information in your comment, you should be aware that your entire comment—including your personal identifying information—may be made publicly available at any time. While you can ask us in your comment to withhold your personal identifying information from public review, we cannot guarantee that we will be able to do so.

Dated: January 4, 2013.
J. Paul Loether,
Chief, National Register of Historic Places/National Historic Landmarks Program.

IDAHO

Canyon County

Nampa Valley Grange No.131, (Grange Halls in Idaho) 203 5th Ave., S., Nampa, 13000002

MISSOURI

Jackson County

Bayles Addition Historic District, (Lee's Summit, Missouri MPS), Bounded by SW. Jefferson, SW. 3rd, SW. 5th, SW. 4th & SW. Walnut Sts., Lee's Summit, 13000003

Southwest Third and Southwest Madison Historic District, (Lee's Summit, Missouri MPS), 202 through 300 SW. 3rd St., Lee's Summit, 13000004

St. Louis Independent City

Church of the Messiah, 5261 Enright Ave., St. Louis (Independent City), 13000005

NEVADA

Clark County

El Cortez Hotel and Casino, 600 Fremont St., Las Vegas, 13000010

Washoe County

Washoe County Library, 301 S. Center St., Reno, 13000011

NEW HAMPSHIRE

Rockingham County

North Hampton Town Hall, 231 Atlantic Ave., North Hampton, 13000006

North School, 63 Amesbury Rd., Kensington, 13000007

Union Meetinghouse—Universalist Church, 97 Amesbury Rd., Kensington, 13000008

Strafford County

Smith Chapel, 45 Mill Pond Rd., Durham, 13000009

PUERTO RICO

Ceiba Municipality

Ceiba Fire Station, (Fire Stations in Puerto Rico MPS) 226 Lauro Pineiro Ave., Ceiba, 13000012

Ponce Municipality

Casa Vives, 88 Calle Paseo Atocha, Ponce, 13000013

Sabana Grande Municipality

Cementerio Masonico de la Resp. Logia Igualdad Num. 23 de Sabana Grande, (Cemeteries in Puerto Rico, 1804-1920 MPS) PR 121, Sabana Grande, 13000014

Yabucoa Municipality

Yabucoa Fire Station, (Fire Stations in Puerto Rico MPS) Address Restricted, Yabucoa, 13000015

WASHINGTON

Island County

Deception Pass State Park, 41020 WA 20, Oak Harbor, 13000018

King County

Admiral's House, 13th Naval District, 2001 W. Garfield St., Seattle, 13000016

Colman Automotive Building, 401 E. Pine St., Seattle, 13000017

In the interest of preservation a request to shorten the comment period to three days has been made for the following resource:

DISTRICT OF COLUMBIA

District of Columbia

Embassy of Mexico—MacVeagh House, 2829 16th St., NW., Washington, 13000001

[FR Doc. 2013-02915 Filed 2-7-13; 8:45 am]

BILLING CODE 4312-51-P